DEPARTMENT OF TRANSPORTATION

Federal Aviation Administration

14 CFR Part 39

[Docket No. FAA-2012-0004; Directorate Identifier 2012-NE-01-AD; Amendment 39-17390; AD 2013-05-18]

RIN 2120-AA64

Airworthiness Directives; Rolls-Royce plc Turbofan Engines

AGENCY: Federal Aviation Administration (FAA), DOT.

ACTION: Final rule; request for comments.

SUMMARY: We are superseding an existing airworthiness directive (AD) for all Rolls-Royce plc (RR) RB211 Trent 500 series turbofan engines. That AD currently requires a one-time inspection of the fuel tubes and fuel tube clips for evidence of damage, wear, and fuel leakage. This AD requires the same inspection, and adds additional repetitive inspections. This AD was prompted by additional RR engineering analysis. We are issuing this AD to prevent engine fuel leaks, which could result in engine damage and damage to the airplane.

DATES: This AD is effective April 5, 2013.

The Director of the Federal Register approved the incorporation by reference of a certain publication listed in the AD as of April 5, 2013.

We must receive any comments on this AD by May 6, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Rolls-Royce plc, Corporate Communications, P.O. Box 31, Derby, England, DE248BJ; phone: 011-44-1332-242424; fax: 011-44-1332-249936; or email: http://www.rolls-royce.com/contact/civil_team.jsp. You may view this service information at the FAA, Engine & Propeller Directorate, 12 New England Executive Park, Burlington, MA 01803. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Robert Green, Aerospace Engineer, Engine Certification Office, FAA, Engine & Propeller Directorate, 12 New England Executive Park, Burlington, MA 01803; phone: 781-238-7754; fax: 781-238-7199; email: Robert.Green@faa.gov.

SUPPLEMENTARY INFORMATION:

Discussion

On January 19, 2012, we issued AD 2012-02-04, Amendment 39-16927 (77 FR 6668, February 9, 2012), for all RR RB211 Trent 500 series turbofan engines. That AD requires a one-time inspection of the fuel tubes and fuel tube clips for evidence of damage, wear, and fuel leakage. That AD resulted from reports of wear found between the securing clips and the low-pressure (LP) fuel tube outer surface, which reduces the fuel tube wall thickness, leading to fracture of the fuel tube and consequent fuel leakage. We issued that AD to prevent engine fuel leaks, which could result in engine damage and damage to the airplane.

Actions Since AD Was Issued

Since we issued AD 2012-02-04, Amendment 39-16927 (77 FR 6668, February 9, 2012), RR engineering determined that additional repetitive inspections are required. The European Aviation Safety Agency (EASA) has notified us of this unsafe condition and corrective actions in EASA AD 2012-0237R1, dated November 14, 2012.

Relevant Service Information

We reviewed RR Alert Non-Modification Service Bulletin (NMSB) RB.211-73-AG948, dated September 28, 2012. The NMSB describes procedures for inspection and possible removal and replacement of the LP fuel tubes, fuel tube clips, and fuel-to-oil heat exchanger mounts.

FAA's Determination

We are issuing this AD because we evaluated all the relevant information and determined the unsafe condition described previously is likely to exist or develop in other products of the same type design.

AD Requirements

This AD requires a one-time inspection, and additional repetitive inspections of the fuel tubes, fuel tube clips, and fuel-to-oil heat exchanger mounts for evidence of damage, wear, and fuel leakage.

FAA's Justification and Determination of the Effective Date

The FAA has found that notice and comment prior to adoption of this rule is unnecessary because no engines are used on U.S. registered airplanes. Therefore, we find that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2012-0004 and directorate identifier 2012-NE-01-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will not affect any engines installed on airplanes of U.S. registry. Therefore, we estimate the cost of this AD to U.S. operators to be $0.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-02-04, Amendment 39-16927 (77 FR 6668, February 9, 2012) and adding the following new AD:

2013-05-18 Rolls-Royce plc: Amendment 39-17390; Docket No. FAA-2012-0004; Directorate Identifier 2012-NE-01-AD.

(a) Effective Date

This AD is effective April 5, 2013.

(b) Affected ADs

This AD supersedes AD 2012-02-04, Amendment 39-16927 (77 FR 6668, February 9, 2012).

(c) Applicability

This AD applies to Rolls-Royce plc (RR) RB211 Trent 553-61, RB211 Trent 553A2-61, RB211 Trent 556-61, RB211 Trent 556A2-61, RB211 Trent 556B-61, RB211 Trent 556B2-61, RB211 Trent 560-61, and RB211 Trent 560A2-61 turbofan engines that have any of the following fuel tube part numbers installed: FW57605, FW17689, FW57604, FK30710, FW57578, or FK30713.

(d) Unsafe Condition

This AD was prompted by reports of wear found between the securing clips and the low-pressure (LP) fuel tube outer surface, which reduces the fuel tube wall thickness, leading to fracture of the fuel tube and consequent fuel leakage. We are issuing this AD to prevent engine fuel leaks, which could result in engine damage and damage to the airplane.

(e) Actions and Compliance

Unless already done, do the following actions.

(1) Inspect the LP fuel system of engines that are on wing within 1,600 flight hours after February 24, 2012, or before the next flight after the effective date of this AD, whichever occurs later. Use the procedures in the Accomplishment Instructions, paragraph 3.A, of RR Alert Non-Modification Service Bulletin (NMSB) RB.211-73-AG948, dated September 28, 2012, to do the inspection.

(2) For engines that are in shop for any reason, after the effective date of this AD, inspect the LP fuel system. Use the procedures in the Accomplishment Instructions, paragraph 3.B, of RR Alert NMSB RB.211-73-AG948, dated September 28, 2012, to do the inspection.

(3) Thereafter, reinspect the LP fuel system within every 6,000 flight hours since last inspection. Reinspection may be on-wing or in the shop. Use the procedures in the Accomplishment Instructions, paragraph 3.A or 3.B, as appropriate, of RR Alert NMSB RB.211-73-AG948, dated September 28, 2012, to do the inspection.

(4) If the LP fuel system fails the inspections required by this AD, replace the part(s) that failed the inspection with hardware eligible for installation.

(f) Definitions

For the purpose of this AD, a shop visit is the induction of an engine into the shop for maintenance or overhaul. The separation of engine flanges solely for the purposes of transporting the engine without subsequent engine maintenance does not constitute an engine shop visit.

(g) Credit for Previous Actions

You may take credit for the initial inspection required by paragraph (e)(1) of this AD if you performed the initial inspection before the effective date of this AD using RR Alert NMSB RB.211-73-AG948, dated September 28, 2012; RR NMSB RB.211-73-G723, dated September 26, 2011, or Revision 1, dated January 31, 2012; or RR Alert NMSB RB.211-73-AG797, dated October 26, 2011, or Revision 1, dated January 31, 2012, or Revision 2, dated June 13, 2012.

(h) Alternative Methods of Compliance (AMOCs)

The Manager, Engine Certification Office, FAA, may approve AMOCS for this AD. Use the procedures found in 14 CFR 39.19 to make your request.

(i) Related Information

(1) For more information about this AD, contact: Robert Green, Aerospace Engineer, Engine Certification Office, FAA, Engine & Propeller Directorate, 12 New England Executive Park, Burlington, MA 01803; phone: 781-238-7754; fax: 781-238-7199; email: Robert.Green@faa.gov.

(2) Refer to European Aviation Safety Agency AD 2012-0237R1, dated November 14, 2012, for related information.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Rolls-Royce plc (RR) Alert Non-Modification Service Bulletin RB.211-73-AG948, dated September 28, 2012.

(ii) Reserved.

(3) For RR service information identified in this AD, contact Rolls-Royce plc, Corporate Communications, P.O. Box 31, Derby, England, DE248BJ; phone: 011-44-1332-242424; fax: 011-44-1332-249936; email: http://www.rolls-royce.com/contact/civil_team.jsp.

(4) You may view this service information at FAA, Engine & Propeller Directorate, 12 New England Executive Park, Burlington, MA 01803. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on March 7, 2013.
Colleen M. D'Alessandro,
Assistant Manager, Engine & Propeller Directorate, Aircraft Certification Service.

[FR Doc. 2013-06161 Filed 3-20-13; 8:45 am]

BILLING CODE 4910-13-P